DEPARTMENT OF COMMERCE

National Oceanic and Atmospheric Administration

RIN 0648-XC221

New England Fishery Management Council (NEFMC); Public Meeting

AGENCY: National Marine Fisheries Service (NMFS), National Oceanic and Atmospheric Administration (NOAA), Commerce.

ACTION: Notice of a public meeting.

SUMMARY: The New England Fishery Management Council (Council) will hold a three-day meeting on September 25-27, 2012 to consider actions affecting New England fisheries in the exclusive economic zone (EEZ).

DATES: The meeting will be held on Tuesday, Wednesday and Thursday, September 25-27, starting at 9 a.m. on Tuesday, at 8:30 a.m. on Wednesday and 8 a.m. on Thursday.

ADDRESSES: The meeting will be held at the Radisson Hotel Plymouth Harbor, 180 Water Street, Plymouth, MA 02360; telephone: (508) 747-4900; fax: (508) 746-2609; or online at www.radisson.com/plymouth-hotel-ma-02360/maplyhar.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, September 25, 2012

Following introductions and any announcements, the annual election of Council officers will take place once all newly appointed members have been sworn in by the NOAA Fisheries Regional Administrator/Northeast Region. Brief reports will then be provided by the NEFMC Chairman and Executive Director, the Northeast Fisheries Science Center and Mid-Atlantic Fishery Management Council liaisons, NOAA General Counsel, representatives of the Atlantic States Marine Fisheries Commission, and staff from the regional Vessel Monitoring Systems Operations and NOAA Law Enforcement offices. The Council also will receive an update about Northeast Regional Ocean Council activities. The new Coast Guard First District Commander will provide his perspective on fisheries issues, and following a lunch break, the Northeast Fisheries Science Center (NEFSC) Director will present an overview of the Center's draft Strategic Plan. A question and answer period is scheduled to accompany the presentation. NEFMC staff will provide findings and recommendations concerning the use of socio-cultural information in the NEFMC process. Three additional reports will follow: the Spiny Dogfish Committee will ask for final approval of measures to be included in Amendment 3 to the Spiny Dogfish Fishery Management Plan (FMP); the Monkfish Committee will update the Council on its progress to develop management alternatives for inclusion in Amendment 6 to the Monkfish FMP; and the Council's Enforcement Committee will review any recommendations relative to NOAA's enforcement priorities for 2013, fishing gear stowage requirements, and new forms proposed by NOAA as part of a new information collection system. The day will end with a listening session that the audience and larger public may participate in via webinar. For this Council meeting, the focus will be on the new Northeast Regional Administrator, his views and opinions, and his recent visits to many coastal communities in the Northeast.

Wednesday, September 26, 2012

The Council will receive a report from the NEFSC summarizing the findings of the 54th Stock Assessment Workshop/Stock Assessment Review Committee meetings. The species addressed were Atlantic herring, and Southern New England/Mid-Atlantic yellowtail flounder. The Council's Scientific and Statistical Committee will report on its acceptable biological catch recommendations for groundfish stocks for fishing years 2013-15, Atlantic herring for 2013-15 and sea scallops for 2013-14. The Herring Committee will address the recent court decision about Amendment 4 to the Atlantic Herring FMP and ask the Council to consider actions to address the court order. Discussion also will cover initial development of Atlantic herring fishery specifications for the upcoming fishing years 2013-15, including possible action to maintain the 2012 specifications through 2013 and develop a separate package for 2014-16. The Scallop Committee will report later in the day about management measures proposed for Atlantic Sea Scallop FMP Framework Adjustment 24/Groundfish FMP Framework Adjustment 49. Framework 24 is an action to set fishery specifications for fishing years 2013 and 2014, but includes other measures: a possible modification of the Georges Bank access area seasonal closures; measures to address yellowtail flounder bycatch in the limited access general category (LAGC) fishery; the potential allowance of quota transfer during the year for LAGC individual fishery quota vessels; and measures to expand the observer set-aside program to include LAGC scallop vessels in open areas. At the end of the day, the Council will hear about the 2012 assessments for the transboundary stocks of Eastern Georges Bank cod and haddock, and Georges Bank yellowtail flounder. The day will conclude with consideration and approval of fishing year 2013 quotas for these same stocks.

Thursday, September 27, 2012

The Council may approve a small mesh multispecies control date for the red hake, silver hake and offshore hake fisheries. This issue will be followed by a lengthy Groundfish Committee report on a range of issues including: the development of Framework 48 to the Northeast Multispecies (Groundfish) FMP, an action that may include fishing year 2013-15 overfishing levels and acceptable biological catches for a number of stocks managed through this FMP; the creation of a Southern New England/Mid-Atlantic windowpane flounder sub-annual catch limit (sub-ACL) for the sea scallop fishery; adjustments to the Southern New England/Mid-Atlantic and Georges Bank yellowtail flounder sub-ACLs for the scallop fishery; sector monitoring issues; adjustments to recreational fishing measures if necessary; and consideration of other adjustments to the groundfish management measures. As part of this action, the Council also will consider recommendations for allowing increased access to the groundfish closed areas to mitigate expected low acceptable biological catches for groundfish stocks in fishing year 2013.

During the afternoon session on Thursday the Habitat Committee will request that the Council consider splitting the deep-sea coral alternatives off from the Omnibus EFH Amendment 2, and possibly initiating development of a coral-focused omnibus amendment. The Council also may endorse a Memorandum of Understanding related to deep-sea corals, and will review the draft adverse effects minimization alternatives under development in Omnibus EFH Amendment 2. The day will conclude with an initial discussion of the Council's 2013 management priorities.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: September 4, 2012.
Tracey L. Thompson,
Acting Deputy Director, Office of Sustainable Fisheries, National Marine Fisheries Service.

[FR Doc. 2012-22025 Filed 9-6-12; 8:45 am]

BILLING CODE 3510-22-P